DEPARTMENT OF THE INTERIOR

Fish and Wildlife Service

[FWS-R6-ES-2012-N041; FXES11130600000D2-123-FF06E00000]

Endangered and Threatened Wildlife and Plants; Recovery Permit Applications

AGENCY: Fish and Wildlife Service, Interior.

ACTION: Notice of availability; request for comments.

SUMMARY: We, the U.S. Fish and Wildlife Service, invite the public to comment on the following applications to conduct certain activities with endangered or threatened species. With some exceptions, the Endangered Species Act of 1973, as amended (Act), prohibits activities with endangered and threatened species unless a Federal permit allows such activity. The Act requires that we invite public comment before issuing these permits.

DATES: To ensure consideration, please send your written comments by April 5, 2012.

ADDRESSES: You may submit comments or requests for copies or more information by any of the following methods. Alternatively, you may use one of the following methods to request hard copies or a CD-ROM of the documents. Please specify the permit you are interested in by number (e.g., Permit No. TE-123456).

• Email: permitsR6ES@fws.gov. Please refer to the respective permit number (e.g., Permit No. TE-123456) in the subject line of the message.

• U.S. Mail: Ecological Services, U.S. Fish and Wildlife Service, P.O. Box 25486-DFC, Denver, CO 80225.

• In-Person Drop-off, Viewing, or Pickup: Call (303) 236-4256 to make an appointment during regular business hours at 134 Union Blvd., Suite 645, Lakewood, CO 80228.

FOR FURTHER INFORMATION CONTACT: Kris Olsen, Permit Coordinator Ecological Services, (303) 236-4256 (phone); permitsR6ES@fws.gov (email).

SUPPLEMENTARY INFORMATION:

Background

The Act (16 U.S.C. 1531 et seq.) prohibits activities with endangered and threatened species unless a Federal permit allows such activity. Along with our implementing regulations in the Code of Federal Regulations (CFR) at 50 CFR 17, the Act provides for permits, and requires that we invite public comment before issuing these permits.

A permit granted by us under section 10(a)(1)(A) of the Act authorizes you to conduct activities with United States endangered or threatened species for scientific purposes, enhancement of propagation or survival, or interstate commerce (the latter only in the event that it facilitates scientific purposes or enhancement of propagation or survival). Our regulations implementing section 10(a)(1)(A) for these permits are found at 50 CFR 17.22 for endangered wildlife species, 50 CFR 17.32 for threatened wildlife species, 50 CFR 17.62 for endangered plant species, and 50 CFR 17.72 for threatened plant species.

Applications Available for Review and Comment

We invite local, State, and Federal agencies, and the public to comment on the following applications. Please refer to the appropriate permit number (e.g., Permit No. TE-123456) for the application when submitting comments.

Documents and other information the applicants have submitted with these applications are available for review, subject to the requirements of the Privacy Act (5 U.S.C. 552a) and Freedom of Information Act (5 U.S.C. 552).

Permit Application Number: TE-047250

Applicant: Joe Maurier, Montana Fish, Wildlife, and Parks, Helena, Montana 59620.

Applicant requests renewal of an existing permit to perform the following recovery activities with the following species, in conjunction with surveys and population monitoring activities throughout the range of each species in Montana for the purpose of enhancing the species' survival: take (capture, hold, tag, propagate, and kill) pallid sturgeon (Scaphirhynchus albus) and take (capture, hold, tag, and release) black-footed ferret (Mustela nigripes).

Permit Application Number: TE-059105

Applicant: Pam Riddle, Bureau of Land Management, Moab Field Office, Moab, Utah 84532.

Applicant requests renewal of an existing permit to take (harass by survey) Southwestern willow flycatcher (Empidonax traillii extimus) in conjunction with surveys throughout the range of the species in Utah for the purpose of enhancing the species' survival.

Permit Application Number: TE-161444

Applicant: William Shepherd, California Academy of Sciences, Steinhart Aquarium, San Francisco, California 94118.

Applicant requests renewal of an existing permit to take (display) pallid sturgeon (Scaphirhynchus albus) for the purpose of enhancing the species' survival.

Permit Application Number: TE-047290

Applicant: Theodore James Smith, Colorado Parks and Wildlife, Native Aquatic Species Restoration Facility, Alamosa, Colorado 81101.

Applicant requests renewal of an existing permit to take (capture, hold, tag, propagate, and kill) bonytail (Gila elegans), Colorado pikeminnow (Ptychocheilus lucius), humpback chub (Gila cypha), and razorback sucker (Xyrauchen texanus) at the Colorado Parks and Wildlife, Native Aquatic Species Restoration Facility for the purpose of enhancing the species' survival.

Permit Application Number: TE-049623

Applicant: Mike Houck, Department of the Army, DPW, Environmental Division, Ft. Riley, Kansas 66442.

Applicant requests renewal of an existing permit to take (capture, survey, electrofish, and display) Topeka shiner (Notropis topeka) in Kansas for the purpose of enhancing the species' survival.

Permit Application Number: TE-052204

Applicant: Lee Bender, U.S. Fish and Wildlife Service, Saratoga National Fish Hatchery, Saratoga, Wyoming 82331.

Applicant requests renewal of an existing permit to take (survey, transport, and propagate) Wyoming toad (Bufo baxteri) in Wyoming for the purpose of enhancing the species' survival.

Permit Application Number: TE-056079

Applicant: John Hawkins, Colorado State University, Larval Fish Laboratory, Ft. Collins, Colorado 80523.

Applicant requests renewal of an existing permit to take (capture, survey, and electrofish) Colorado pikeminnow (Ptychocheilus lucius) in Colorado for the purpose of enhancing the species' survival.

Permit Application Number: TE-07858A

Applicant: Eugene Schupp, Utah State University, Logan, Utah 84322.

Applicant requests renewal of an existing permit to take (remove and reduce to possession, propagate) Schoenocrambe suffrutescens (Shrubby reed-mustard) in Utah for the purpose of enhancing the species' survival.

Permit Application Number: TE-064685

Applicant: Steve Haslouer, Kansas Department of Health and Environment, Topeka, Kansas 66612.

Applicant requests renewal of an existing permit to take (capture, survey, and electrofish) Arkansas River shiner (Notropis girardi), Neosho madtom (Noturus placidus), pallid sturgeon (Scaphirhynchus albus), and Topeka shiner (Notropis topeka) in Kansas for the purpose of enhancing the species' survival.

Permit Application Number: TE-064685

Applicant: Ron Kagan, Detroit Zoo, Royal Oak, Michigan 48067.

Applicant requests renewal of an existing permit to take (survey, transport, display, and propagate) Wyoming toad (Bufo baxteri) for the purpose of enhancing the species' survival.

Permit Application Number: TE-051815

Applicant: Terry Lincoln, Dakota Zoological Society, Bismarck, North Dakota 58502.

Applicant requests renewal of an existing permit to take (display) pallid sturgeon (Scaphirhynchus albus) for the purpose of enhancing the species' survival.

National Environmental Policy Act

In compliance with the National Environmental Policy Act (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Dated: February 17, 2012.
Michael G. Thabault,
Acting Regional Director, Mountain-Prairie Region.

[FR Doc. 2012-5336 Filed 3-5-12; 8:45 am]

BILLING CODE 4310-55-P